DEPARTMENT OF TRANSPORTATION

Federal Aviation Administration

Notice of Intent To Rule on Request To Release Airport Property at the Rusk County Airport, Henderson, TX

AGENCY: Federal Aviation Administration (FAA), DOT.

ACTION: Notice of Request to Release Airport Property.

SUMMARY: The FAA proposes to rule and invite public comment on the release of land at the Rusk County Airport under the provisions of Section 125 of the Wendell H. Ford Aviation Investment Reform Act for the 21st Century (AIR 21).

DATES: Comments must be received on or before December 3, 2004.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to the Honorable Sandra Hodges, Rusk County Judge, at the following address: Rusk County Courthouse, Henderson, Texas 75652.

FOR FURTHER INFORMATION CONTACT: Mr. Rodney Clark, Program Manager, Federal Aviation Administration, Texas Airports Development Office, ASW-650, 2601 Meacham Boulevard, Fort Worth, Texas 76193-0650, Telephone: (817) 222-5659, e-mail: Rodney.Clark@faa.gov, fax: (817) 222-5989.

The request to release property may be reviewed in person at the same location.

SUPPLEMENTARY INFORMATION: The FAA invites public comment on the request to release property at the Rusk County Airport under the provisions of the AIR 21.

The following is a brief overview of the request:

The County of Rusk requests the release of 42.93 acres of non-aeronautical airport property. The land was acquired by deed in 1941. The property to be released will be exchanged for a like sum of property to allow for a future runway extension. No funds will be generated from the release.

Any person may inspect the request in person at the FAA office listed above under FOR FURTHER INFORMATION CONTACT.

In addition, any person may, upon request, inspect the application, notice and other documents relevant to the application in person at the Rusk County Airport, telephone number (903) 657-0302.

Issued in Fort Worth, Texas on October 25, 2004.
Naomi L. Saunders,
Manager, Airports Division.

[FR Doc. 04-24462 Filed 11-2-04; 8:45 am]

BILLING CODE 4910-13-M